DEPARTMENT OF HEALTH AND HUMAN SERVICES

Administration for Children and Families

Proposed Information Collection Activity; Comment Request

Title: Parents and Children Together (PACT) Evaluation.

OMB No.: 0970-0403.

Description: The Office of Planning, Research, and Evaluation (OPRE), Administration for Children and Families (ACF), U.S. Department of Health and Human Services (HHS), is proposing data collection activity as part of the Parents and Children Together (PACT) Evaluation. The objective of the PACT evaluation is to document and provide initial assessment of selected Responsible Fatherhood and Healthy Marriage grant programs that were authorized under the 2010 Claims Resolution Act. This information will be critical to informing decisions related to future investments in programming as well as the design and operation of such services.

PACT is utilizing three major, interrelated evaluation strategies: Impact evaluation; implementation evaluation; and qualitative evaluation. To collect data for these strategies, four instruments have been approved to-date, and 14 new instruments are under review as of the publish date of this notice.

Instruments approved to-date:

(1) Selecting Study Grantees (discussions with program and partner organization staff)—APPROVED April 20, 2012.

(2) Introductory Script (for RF program staff to discuss with program applicants)—APPROVED October 31, 2012.

(3) Baseline Survey (for RF study participants)—APPROVED October 31, 2012.

(4) RF study Management Information System (MIS)—APPROVED October 31, 2012.

Instruments under review at publish date of this notice:

(5) Introductory Script (for HM program staff to discuss with program applicants).

(6) Baseline Survey (for HM study participants).

(7) HM study Management Information System (MIS) (8) Semi-structured interview topic guide (for program staff).

(9) On-line survey (for program staff).

(10) Telephone interview guide (for program staff at referral organizations).

(11) On-line Working Alliance Inventory (for program staff and participants).

(12) Focus group discussion guide (for program participants).

(13) Telephone interview guide (for program dropouts).

(14) In-person, in-depth interview guide (for program participants).

(15) Telephone check-in guide (for program participants).

(16) Semi-structured interview topic guide (for program staff).

(17) Focus group discussion guide (for program participants).

(18) Questionnaire (for program participants in focus groups).

This 60-Day Federal Register Notice covers two new instruments:

(19) Follow-up Survey (for RF study participants).

(20) Follow-up Survey (for HM study participants).

Respondents: Program applicants, program participants, program staff, and staff at referral agencies.

Annual Burden Estimates

Some burden has already been approved for this study, and the instruments are still in use.

Annual Burden—Already Approved
Evaluation component | Total annual burden hours
Site Selection | 50
Impact Study | 4235
Total | 4285

Some burden is currently under review, as of the date of this publication.

Annual Burden—Currently Under Review
Evaluation component | Total annual burden hours
Impact Study | 8731
Implementation/Qualitative Study | 1000
Total | 8831

This current 60-Day Federal Register Notice covers two new instruments:

Annual Burden: Current Request
Activity/respondent | Annual number of respondents | Number of responses per respondent | Average burden per response (hours) | Total annual burden hours
IMPACT
Responsible Fatherhood Grantee Impact Evaluation
(19) Follow-up survey:
Study participants | 1,600 | 1 | 0.75 | 1,200
Healthy Marriage Grantee Impact Evaluation
(20) RF study MIS:
Study participants | 1,600 | 1 | 0.75 | 1,200
Total |  |  |  | 2,400

Estimated Total Annual Burden Hours (for instruments previously approved and currently in use, instruments currently under review, and those associated with this 60-Day Notice): 15,516.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: OPRE Reports Clearance Officer. Email address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Steven M. Hanmer,
Reports Clearance Officer.

[FR Doc. 2013-12588 Filed 5-24-13; 8:45 am]

BILLING CODE 4184-01-P